DEPARTMENT OF THE INTERIOR

Bureau of Land Management

[CA-320-1430-00]

Notice of Intent To Amend Land Use Plans

AGENCY: Bureau of Land Management, Interior.

ACTION: Notice.

SUMMARY: The Bureau of Land Management (BLM), Alturas Field Office (FO), is proposing a Land Tenure Adjustment Action Plan (LTA) for public lands managed by the Alturas FO in Modoc, Lassen, Shasta and Siskiyou Counties. As part of this process, the following BLM Resource Management Plans (RMP) and Management Framework Plans (MFP) will be amended to reflect any needed changes.

(1) Alturas Resource Management Plan and Environmental Impact Statement (approved 8/28/94).

(2) Cinder Cone Management Framework Plan (approved July, 1973).

(3) Mt. Dome Management Framework Plan (approved 11/24/81).

The BLM Alturas FO is seeking public scoping input into this proposed plan amendment. This planning amendment is being conducted pursuant to section 202 of the Federal Land Policy and Management Act, as amended (43 U.S.C. 1712).

SUPPLEMENTARY INFORMATION: This proposed Land Tenure Adjustment Plan has two general goals: (1) To implement and expand on the land acquisition decisions of the BLM Alturas Management Plans; and (2) to expand on the disposal/exchange decisions of the Alturas Management Plans. This Land Tenure Adjustment (LTA) plan amendment is intended to identify broad areas of public lands for disposal through exchange, and broad areas where private lands may be acquired by land exchange. This LTA plan amendment is intended to implement the goals and objectives identified in the Alturas Management Plans by acquiring private lands with potentially high public resource values which will provide better Federal land management, in exchange for public lands that will meet the needs of State and local people as described in section 206(a) of FLPMA. The exchanges proposed in this plan amendment are intended to result in better Federal land management by the BLM, and in better private land management for the landowners who may acquire the public lands through the exchanges. Public scoping meetings on this proposed plan amendment will be held in towns throughout the affected area.

FOR FURTHER INFORMATION CONTACT: Peter Humm, Realty Specialist, or Tim Burke, Field Manager, Bureau of Land Management, Alturas Field Office, 708 West 12th Street, Alturas, CA 96101 or by phone at (530) 233-4666.

DATES: Public scoping comments on this proposed land amendment must be received by the BLM Alturas Field Office, at the above address, not later than October 11, 2000.

Dated: August 16, 2000.
Timothy J. Burke,
Field Manager.

[FR Doc. 00-21695 Filed 8-24-00; 8:45 am]

BILLING CODE 4310-40-P